DEPARTMENT OF TRANSPORTATION

National Highway Traffic Safety Administration

[Docket No. NHTSA-03-14395]

NHTSA's Activities under the United Nations Economic Commission for Europe 1998 Global Agreement

AGENCY: National Highway Traffic Safety Administration (NHTSA), Department of Transportation.

ACTION: Notice of activities under the 1998 Global Agreement and request for comments.

SUMMARY: NHTSA is publishing this notice to inform the public of the tentative schedule of meetings of the World Forum for the Harmonization of Vehicle Regulations (WP.29) and its working parties of experts for calendar year 2003. In addition, this notice informs the public about the 1998 Global Agreement program of work that was agreed to by the Executive Committee of the Agreement and adopted by WP.29. Finally, NHTSA is seeking comments regarding a draft U.S. proposal for the development of a global technical regulation on door locks and door retention components under the 1998 Global Agreement. Publication of this information is consistent with NHTSA's Statement of Policy regarding Agency Policy Goals and Public Participation in the Implementation of the 1998 Agreement on Global Technical Regulations.

DATES: Written comments may be submitted to this agency and must be received by March 5, 2003.

ADDRESSES: You may submit your comments in writing to: Docket Management, Room PL-401, 400 Seventh Street, SW., Washington, DC, 20590. Alternatively, you may submit your comments electronically by logging onto the Dockets Management System Web site at http://dms.dot.gov. Click on “Help & Information” or “Help/Info” to view instructions for filing your comments electronically. Regardless of how you submit your comments, you should mention the docket number of this document.

FOR FURTHER INFORMATION CONTACT: Ms. Julie Abraham, Director of the Office of International Policy and Harmonization (NPP-01), National Highway Traffic Safety Administration, 400 Seventh Street, SW., Washington, DC, 20590; phone number (202) 366-2114, fax number (202) 366-2559.

SUPPLEMENTARY INFORMATION:

Table of Contents

I. Introduction

II. List of tentative meetings of WP.29 and its Working Parties of Experts

III. Program of Work of the 1998 Global Agreement

IV. Formal proposals for global technical regulations submitted by Contracting Parties

V. Request for comments on U.S. draft proposal for a GTR

VI. Appendix

I. Introduction

On August 23, 2000, NHTSA published in the Federal Register (65 FR 51236) a statement of policy indicating that the agency would provide each calendar year a list of scheduled meetings of WP.29 and the working parties of experts, as well as meetings of the Executive Committee of the 1998 Global Agreement. Further, in that policy statement, the agency stated that it would keep the public informed about a program of work under the Agreement (i.e., the agreed subjects for which a global technical regulations should be developed) as well as a list of candidate global technical regulations that have been formally proposed by a contracting party and referred to a working party of experts. NHTSA also indicated that before submitting a draft U.S. proposal for the development of a global technical regulation to WP.29, NHTSA would publish a notice requesting public comments on the draft proposal.

On July 18, 2000, NHTSA published in the Federal Register (65 FR 44565) a notice seeking public comments on its preliminary recommendations for the first motor vehicle safety technical regulations to be considered for establishment under the Agreement. On January 18, 2001, the agency, after consideration of the comments, published in the Federal Register (66 FR 4893) a notice outlining its final recommendations. In that notice, the agency stated that it would present those recommendations to WP.29 and propose them for consideration by other contracting parties of the 1998 Global Agreement concerning the adoption of a program of work under the Agreement. The agency also stated that it would report to the public the final outcome of the deliberations.

II. List of Tentative Meetings of WP.29 and Its Working Parties of Experts

The following list contains meetings tentatively scheduled for calendar year 2003. The meeting dates are subject to confirmation by the Inland Transport Committee during its February 2003 session. The agency does not anticipate any changes to the schedule. In addition, working parties of experts may schedule, if necessary, informal meetings in addition to their regularly scheduled ones in order to address specific regulations.

Schedule of Meetings of WP.29 and Its Working Parties of Experts

January

13-17 Working Party on Pollution and Energy (GRPE) (45th session).

February

3-7 Working Party on Brakes and Running Gear (GRRF) (53rd session).

March

10 Administrative Committee for the Coordination of Work (WP.29/AC.2) (81st session).

11-14 World Forum for Harmonization of Vehicle Regulations (WP.29)—(129th session) and Administrative Committee to the 1958 Agreement (AC.1) (23rd session) and Executive Committee of the 1998 Agreement (AC.3) (seventh session).

April

7-11 Working Party on Lighting and Light-Signalling (GRE) (50th session).

May

5-9 Working Party on General Safety Provisions (GRSG) (84th session).

20-23 Working Party on Pollution and Energy (GRPE) (46th session).

June

2-6 Working Party on Passive Safety (GRSP) (33rd session).

23 Administrative Committee for the Coordination of Work (WP.29/AC.2) (82nd session).

24-27 World Forum for Harmonization of Vehicle Regulations (WP.29) (130th session) and AC.1 (24th session) and AC.3 (eighth session).

September

15-19 Working Party on Lighting and Light-Signalling (GRE) (51st session).

October

6-8 Working Party on Brakes and Running Gear (GRRF) (54th session).

9-10 Working Party on Noise (GRB) (38th session).

21-24 Working Party on General Safety Provisions (GRSG) (85th session).

November

10 Administrative Committee for the Coordination of Work (WP.29/AC.2) (83rd session).

11-14 World Forum for Harmonization of Vehicle Regulations (WP.29) (131st session) and AC.1 (25th session) and AC.3 (ninth session).

December

8-12 Working Party on Passive Safety (GRSP) (34th session).

III. Program of Work of the 1998 Global Agreement

In March 2001, NHTSA submitted to WP.29 and the Executive Committee of the 1998 Global Agreement its final recommendations for the first motor vehicle safety technical regulations to be considered for establishment under that Agreement. The Administrative Committee for the Coordination of Work of WP.29 (AC.2) reviewed the recommendations made by various contracting parties, including the United States, Canada, the European Union, Japan, and Russia, as well as those made by other interested parties and reached agreement on a Program of Work, taking into account the workload of the working parties of experts under WP.29. AC.2 then submitted the Program of Work to the Executive Committee of the 1998 Global Agreement (AC.3). The AC.3 approved the Program of Work and requested that contracting parties volunteer to sponsor each listed regulation by submitting a formal proposal as required by Article 6 of the 1998 Global Agreement. WP.29 formally adopted the Program of Work at its session in March 2002. During the June and November 2002 sessions of WP.29, several contracting parties stepped forward as sponsors for the individual work items. The following table lists the subjects and the sponsoring contracting party.

Program of Work of the 1998 Global Agreement
Working party of experts | Subject | Sponsoring contracting party
GRE | Installation of Lighting and Light-Signalling Devices | Canada.
GRRF | Motorcycle Brakes | Canada.
| Passenger Vehicle Brakes | To be determined.
GRSG | Safety Glazing | Germany.
| Controls and Displays | Canada.
| Vehicle Classification, Masses and Dimensions | Japan.
GRSP | Pedestrian Safety | European Community.
| Lower Anchorages and Tethers for Child Safety Seats | TBD.
| Door Locks and Door Retention Components | U.S.A.
| Head Restraints | TBD.
GRPE | Worldwide Heavy-Duty Certification Procedure | European Community.
| Worldwide Motorcycle Emission Test Cycle | TBD.
| Heavy-Duty On-Board Diagnostics | U.S.A.
| Off-Cycle Emissions | U.S.A.
| Non-Road Mobile Machinery | European Community.

In addition, the contracting parties will begin exchanges of information in the following areas: tires, under the GRRF; field of vision (GRSG); side-impact dummy and compatibility (GRSP); fuel cells and worldwide light-duty vehicle test procedures (GRPE); and intelligent vehicle systems (WP.29).

IV. Formal Proposals for the Development of Global Technical Regulations Submitted by Contracting Parties

As of December 2002, pursuant to Article 6 of the 1998 Global Agreement, which sets forth the process and conditions under which a contracting party may make proposals for the establishment of global technical regulations, there had been two formal proposals for global technical regulations. One proposal addresses controls and displays, and the other one addresses on-board diagnostics for heavy-duty vehicles and machinery. A copy of the former, which was proposed by Canada, is available in the docket for this notice. Both proposals can be found on the UN/ECE Web site http://www.unece.org/trans/main/wp29/wp29wgs/wp29gen/gen2002.html as UNECE documents Trans/WP.29/2002/29 and Trans/WP.29/2002/26, respectively.

V. Request for Comments on U.S. Draft Proposal for a GTR

During the upcoming meeting of WP.29 and the Executive Committee of the 1998 Global Agreement in March 2003, NHTSA will formalize its sponsorship of the regulation on Door Locks and Door Retention Components, as identified in the Program of Work of the 1998 Global Agreement. The draft proposal describes the objective of the global technical regulation and identifies in general terms issues to be considered during the development of the regulation. Please provide public comments on the draft proposal set forth in the appendix to this notice. NHTSA will take all public comments into account before submitting the proposal to WP.29 during its March 2003 session.

Appendix—U.S. Proposal for the Development of a Global Technical Regulation on Door Locks and Door Retention Components, To be Submitted to the Executive Committee of the 1998 Global Agreement (AC.3), March 2003

A. Objective of the Proposal

In the U.S., between 1994 and 1999, complete and partial ejections resulted in approximately 9,864 fatalities and 9,767 serious injuries per year. Door ejections accounted for 1,668 of those fatalities (19%) and 1,976 of the serious injuries (22%). Hinged side door openings accounted for approximately 90% of all door ejection fatalities and 93% of all door ejection serious injuries. This situation is likely to be a problem elsewhere.

The objective of this proposal is to develop a global technical regulation regarding door locks and door retention components intended to reduce door latch system failures. In view of the 1998 Global Agreement, we now have an opportunity to develop an improved and harmonized door locks and door retention components regulation. Moreover, the work on the global regulation will provide an opportunity to consider in the new regulation most, if not all, international safety concerns as well as available technological developments.

The U.S. is currently looking into upgrading its door locks and door retention components regulation to provide more stringent requirements. The current regulation was designed to test for door openings in vehicles that were built in the 1960s. Changes in vehicle latch designs common in the 1960s and 1970s have rendered the existing regulations largely obsolete. Likewise, the ECE regulation is now over 30 years old. Neither regulation has been amended significantly since their original adoption. Accordingly, the existing regulations have become less effective and likely do not provide many safety benefits at this time.

In light of the U.S. regulatory upgrade effort, we believe that this would be an excellent opportunity for the international community to develop a GTR concurrently with the U.S. Everyone could benefit from harmonization and new technology-based improvements of the door locks and door retention components regulation. The benefits to the governments would be the improvement of the door locks and door retention components adoption of the best safety practices, the leveraging of resources, and the harmonization of requirements. Manufacturers would benefit from reduction of the cost of development, testing and fabrication process of new models. Finally the consumer would benefit by having better choice of vehicles built to higher, globally recognized standards providing a better level of safety at a lower price.

B. Description of the Proposal to Develop a Regulation

The current requirements only test individual latch components without regard to how those components interact with each other, with other portions of the door, or with the directions of force loading conditions occurring in real world crashes. Door openings are frequently caused by a combination of longitudinal and lateral forces during the crash, which can subject the latch system to compressive longitudinal and tensile lateral forces. These forces often result in structural failures of the latch system as well as other non-latch systems such as hinge strike supports, door frame and door sheet metal. Hence, it would be beneficial to consider developing full system requirements. In addition, current requirements have no test procedure for evaluating the safety of sliding doors. Consideration of such requirements would be valuable.

The GTR will be applicable for passenger vehicles, multi-purpose vehicles as well as trucks. The performance and test requirements for the door latch, striker and hinges will be based on the stringency needed to attain reasonable safety benefits in a cost effective manner. The GTR will be developed based in part on existing national regulations, directives of contracting parties as well as the international standards and regulations listed below. The U.S. prepared a table to facilitate comparison of the present U.S. and ECE regulations, which are currently being widely used by many contracting parties. The table is available in the docket for this notice.

The results of additional research and testing conducted by any contracting parties since the existing regulations were promulgated will also be factored into the requirements of the draft GTR and may result in the proposal of new requirements.

Elements of the GTR, which cannot be resolved by the Working Party will be identified and dealt with in accordance with protocol established by AC.3 and WP.29. The proposed GTR will be drafted in the format adopted by WP.29 (TRANS/WP.29/882).

C. Existing Regulations and Directives

Though there are no regulations currently contained in the Compendium of Candidates, the following regulations and standards will be taken into account during development of the new global technical regulation regarding door locks and door retention components.

• UN/ECE Regulation 11—Uniform provisions concerning the approval of vehicles with regard to door latches and door retention components.

• U.S. Code of Federal Regulations (CFR) Title 49: Transportation; Part 571.206: Door locks and door retention components.

• EU Directive 70/387/EEC, concerning the doors of motor vehicles and their trailers.

• Canada Motor Vehicle Safety Regulation No. 206—Door locks and door retention components.

• Japan Safety Regulation for Road Vehicle Article 25—Entrance.

• Australian Design Rule 2/00—Side Door Latches and Hinges.

D. Existing International Voluntary Standards

The following international voluntary standards will be taken into account during development of the new global technical regulation regarding door locks and door retention components.

• SAE J839, September 1998—Passenger Car Side Door Latch Systems.

• SAE J934, September 1998—Vehicle Passenger Door Hinge Systems.

Issued on: January 29, 2003.
Rose A. McMurray,
Associate Administrator for Planning, Evaluation and Budget.

[FR Doc. 03-2367 Filed 1-31-03; 8:45 am]

BILLING CODE 4910-59-P